DEPARTMENT OF JUSTICE

Antitrust Division

Notice Pursuant to the National Cooperative Research and Production Act of 1993—Global Human Body Models Consortium

Notice is hereby given that, on April 25, 2007, pursuant to Section 6(a) of the National Cooperative Research and Production Act of 1993, 15 U.S.C. 4301 et seq. (“the Act”), Global Human Body Models Consortium has filed written notifications simultaneously with the Attorney General and the Federal Trade Commission disclosing changes in its membership. The notifications were filed for the purpose of extending the Act's provisions limiting the recovery of antitrust plaintiffs to actual damages under specified circumstances. Specifically, Ford Motor Company, Dearborn, MI; Peugeot Citroen Automobiles, Paris, France; and Renault s.a.s., Paris, France have been added as parties to this venture.

No other changes have been made in either the membership or planned activity of the group research project. Membership in this group research project remains open, and Global Human Body Models Consortium intends to file additional written notifications disclosing all changes in membership.

On January 19, 2006, Global Human Body Models Consortium filed its original notification pursuant to Section 6(a) of the Act. The Department of Justice published a notice in the Federal Register pursuant to Section 6(b) of the Act on February 13, 2006 (71 FR 7578).

Patricia A. Brink,
Deputy Director of Operations, Antitrust Division.

[FR Doc. 07-3410 Filed 7-12-07; 8:45 am]

BILLING CODE 4410-11-M